DEPARTMENT OF EDUCATION

Notice of Proposed Information Collection Requests

AGENCY: Department of Education.

ACTION: Correction notice.

SUMMARY: On April 12, 2004, the Department of Education published a notice in the Federal Register (Page 19170, Column 1) for the information collection, “Report of Children with Disabilities Unilaterally Removed or Suspended/Expelled for More Than 10 Days”. The Type of Review is hereby corrected from “Reinstatement” to “Revision”. The Leader, Regulatory Information Management Group, Office of the Chief Information Officer, hereby issues a correction notice as required by the Paperwork Reduction Act of 1995.

Dated: May 24, 2004.
Angela C. Arrington,
Regulatory Information Management Group, Office of the Chief Information Officer.

[FR Doc. 04-12095 Filed 5-27-04; 8:45 am]

BILLING CODE 4000-01-P